OFFICE OF PERSONNEL MANAGEMENT

Submission for OMB Review: Comment Request for Review of an Expired Information Collection: Procedures for Submitting Compensation and Leave Claims

AGENCY: Office of Personnel Management.

ACTION: Notice.

SUMMARY: In accordance with the Paperwork Reduction Act of 1995 (Pub. L. 104-13, May 22, 1995), this notice announces that the Office of Personnel Management (OPM) has submitted to the Office of Management and Budget a request for review of an expired information collection. Procedures for Submitting Compensation and Leave Claims is used to collect information from current and former Federal employees who are submitting a claim for compensation and/or leave. OPM needs this information in order to adjudicate the claim.

We received no comments on our 60-day notice on Procedures for Submitting Compensation and Leave Claims, published in the Federal Register on November 9, 2000.

Approximately 100 claims are submitted annually. It takes approximately 60 minutes to compile the information needed to submit a claim. The annual estimated burden is 100 hours.

For copies of this proposal, contact Mary Beth Smith-Toomey on (202) 606-8358, or E-mail to mbtoomey@opm.gov.

DATES: Comments on this proposal should be received on or before April 2, 2001.

ADDRESSES: Send or deliver comments to—

Melissa A. Drummond, Program Manager, Office of Merit Systems Oversight, Office of Merit Systems Oversight and Effectiveness, U.S. Office of Personnel Management, 1900 E Street, NW, Room 7671, Washington, DC 20415

and

Joseph Lackey, OPM Desk Officer, Office of Information and Regulatory Affairs, Office of Management and Budget, New Executive Office Building, NW, Room 10235, Washington, DC 20503

Office of Personnel Management.
Steven R. Cohen,
Acting Director.

[FR Doc. 01-5056 Filed 3-1-01; 8:45 am]

BILLING CODE 6325-01-P